DEPARTMENT OF AGRICULTURE

Forest Service

Trinity County Resource Advisory Committee

AGENCY: USDA Forest Service.

ACTION: Notice of meeting.

SUMMARY: The Trinity County Resources Advisory Committee (RAC) will meet on April 4, 2004, in Weaverville, California. The purpose of the meeting is to discuss the selection of Title II projects under Public Law 106-393, H.R. 2389, the Secure Rural Schools and Community Self-Determination Act of 2000, also called the “Payments to States” Act.

DATES: The meeting will be held on April 4, 2004, from 6:30 to 8:30 p.m.

ADDRESSES: The meeting will be held at the Trinity County Office of Education, 201 Memorial Drive, Weaverville, California.

FOR FURTHER INFORMATION CONTACT: Joyce Anderson, Designated Federal Official, USDA, Shasta Trinity National Forests, P.O. Box 1190, Weaverville, CA 96093. Phone: (530) 623-1709. Email: jandersen@fs.fed.us.

SUPPLEMENTARY INFORMATION: The meeting will include reports from the fuels and restoration subcommittees, and a discussion of proposed projects for Fiscal Year 2005. The meeting is open to the public. Public input opportunity will be provided and individuals will have the opportunity to address the committee at that time.

Dated: February 25, 2004.
William D. Metz,
Acting Forest Supervisor.

[FR Doc. 04-4679 Filed 3-2-04; 8:45 am]

BILLING CODE 3410-11-M